DEPARTMENT OF HEALTH AND HUMAN SERVICES

Centers for Medicare & Medicaid Services

[CMS-2212-N]

Medicaid Program; Meeting of the Medicaid Commission—July 27, 2005

AGENCY: Center for Medicare & Medicaid Services (CMS), HHS.

ACTION: Notice of meeting.

SUMMARY: This notice announces a public meeting of the Medicaid Commission. Notice of this meeting is given under the Federal Advisory Committee Act (5 U.S.C. App. 2, section 10(a)(1) and (a)(2)). The Medicaid Commission will advise the Secretary on ways to modernize the Medicaid program so that it can provide high-quality health care to its beneficiaries in a financially sustainable way. This notice also announces the appointment of 28 individuals to serve as members of the Medicaid Commission, including one individual to serve as chairperson.

DATES: The Meeting: July 27, 2005.

Special Accommodations: Persons attending the meeting who are hearing or visually impaired, or have a condition that requires special assistance or accommodations, are asked to notify the Executive Secretary by July 19, 2005 (see FOR FURTHER INFORMATION CONTACT).

ADDRESSES: The Meeting: The meeting will be held at the following address: Renaissance Hotel, 999 9th Street, NW., Washington, DC 20001, United States, toll-free 1-800-468-3571, telephone: 1 (202) 898-9000, fax: 1 (202) 289-0947. Web site: You may access up-to-date information on this meeting at http://www.cms.hhs.gov/advisorycommittees/.

FOR FURTHER INFORMATION CONTACT: Mary Beth Hance, Executive Secretary, (410) 786-4299.

SUPPLEMENTARY INFORMATION: On May 24, 2005, we published a notice (70 FR 29765) announcing the Medicaid Commission and requesting nominations for individuals to serve on the Medicaid Commission. This notice announces the first public meeting of the Medicaid Commission. This notice also announces the appointment of 28 individuals to serve as members of the Medicaid Commission, including one individual to serve as chairperson.

Medicaid Commission Voting Members: Donald Sundquist (Chairperson), Angus King (Vice Chairperson), Nancy Atkins, Melanie Bella, Gail Christopher, Gwen Gillenwater, Robert Helms, Kay James, Troy Justesen, Tony McCann, Mike O'Grady, Bill Shiebler, and Grace-Marie Turner.

Medicaid Commission Non-voting Members: James Anderson, Julianne Beckett, Carol Berkowitz, Maggie Brooks, Mark de Bruin, Valerie Davidson, John Kemp, John Monahan, Joseph Marshall, John Nelson, Joseph Piccione, John Rugge, Douglas Struyk, Howard Weitz, and Joy Johnson Wilson.

Topics of the Meeting: The Commission will discuss options to achieve $10 billion in scorable Medicaid savings over 5 years while at the same time make progress toward meaningful longer-term program changes to better serve beneficiaries. The Commission may discuss the need to divide into sub-groups for the purpose of focusing on particular issues within this broad subject, including a discussion of which members would serve on which sub-group.

Procedure and Agenda: This meeting is open to the public. First, the appointees will be sworn in by a Federal official. Each Commission member will then be given an opportunity to make a self-introduction.

There will be a public comment period at the meeting. The Commission may limit the number and duration of oral presentations to the time available. We will request that you declare at the meeting whether or not you have any financial involvement related to any services being discussed.

After the public and CMS presentations, the Commission will deliberate openly on the topic. Interested persons may observe the deliberations, but the Commission will not hear further comments during this time except at the request of the Chairperson. The Commission will also allow an open public session for any attendee to address issues specific to the topic.

Authority: 5 U.S.C. App. 2, section 10(a)(1) and (a)(2).

Dated: July 8, 2005.
Mark B. McClellan,
Administrator, Centers for Medicare & Medicaid Services.

[FR Doc. 05-13790 Filed 7-11-05; 8:45 am]

BILLING CODE 4120-01-P